DEPARTMENT OF COMMERCE

National Oceanic and Atmospheric Administration

[Docket No. 030905221-3221-01]

National Weather Service Modernization and Associated Restructuring; Final Certification of No Degradation of Service for the Combined Consolidation and/or Automation and Closure of Two Weather Service Offices

AGENCY: National Weather Service (NWS), National Oceanic and Atmospheric Administration (NOAA), Department of Commerce (DOC).

ACTION: Notice.

SUMMARY: On August 29, 2003, the Under Secretary of Commerce for Oceans and Atmosphere certified that closure of the Fort Smith, Arkansas, and Salem, Oregon, Weather Service Offices (WSO) will not cause a degradation in service to the affected service areas. On August 29, 2003, the Under Secretary of Commerce for Oceans and Atmosphere transmitted to Congress notice of approval of Consolidation and/or Automation and Closure certifications for WSOs Fort Smith, Arkansas; and Salem, Oregon. Public Law 102-567 requires final certifications be published in the Federal Register. This notice satisfies that requirement.

ADDRESSES: Requests for copies of the final certification packages should be sent to John Sokich, Room 11426, 1325 East-West Highway, Silver Spring, MD 20910-3283.

FOR FURTHER INFORMATION CONTACT: John Sokich (301) 713-0258.

Dated: September 5, 2003.
John E. Jones, Jr.,
Deputy Assistant Administrator.

[FR Doc. 03-23155 Filed 9-10-03; 8:45 am]

BILLING CODE 3510-KE-P